DEPARTMENT OF THE INTERIOR

National Park Service

Native American Graves Protection and Repatriation Review Committee: Meeting

AGENCY: National Park Service, Interior.

ACTION: Notice of Meeting via Teleconference.

SUMMARY: The Native American Graves Protection and Repatriation Review Committee will conduct a meeting via teleconference on Tuesday, January 8, 2008 to provide comments on the proposed rule regarding the disposition of culturally unidentifiable human remains [43 CFR 10.11].

DATES: The teleconference will take place on Tuesday, January 8, 2008 from 2 p.m. to 5 p.m. Eastern Standard Time. This teleconference may conclude early if all business is finished.

ADDRESSES: Telephone conference call only.

FOR FURTHER INFORMATION CONTACT: Members of the public who wish to listen to the teleconference may obtain the call-in number and access code by sending an e-mail to nagpra_info@nps.gov, with “January 8th teleconference” in the subject line, and your full name and organizational affiliation in the body of the e-mail. Registration for the teleconference closes at 5 p.m. Eastern Standard Time, Friday, January 4, 2008.

SUPPLEMENTARY INFORMATION: Authority. Native American Graves Protection and Repatriation Act (NAGPRA, 25 U.S.C. 3001 et seq.), and Federal Advisory Committee Act (FACA, 5 U.S.C. Appendix).

General Information. The Review Committee was established by NAGPRA and appointed by the Secretary of the Interior. The Review Committee is responsible for monitoring the NAGPRA inventory and identification process; reviewing and making findings related to the identity or cultural affiliation of cultural items, or the return of such items; facilitating the resolution of disputes; compiling an inventory of culturally unidentifiable human remains and recommending actions for developing a process for disposition of such remains; consulting with Indian tribes and Native Hawaiian organizations and museums on matters within the scope of the work of the Review Committee affecting such tribes or organizations; consulting with the Secretary of the Interior in the development of regulations to carry out NAGPRA; and making recommendations regarding future care of repatriated cultural items. The Review Committee's work is completed during meetings that are open to the public.

Transcripts of Review Committee meetings are available approximately 8 weeks after each meeting at the National NAGPRA Program office, 1201 Eye Street NW, Washington, DC. To request electronic copies of meeting transcripts, send an e-mail message to nagpra_info@nps.gov. Information about NAGPRA, the Review Committee, and Review Committee meetings is available at the National NAGPRA Website, http://www.nps.gov/history/nagpra/; for the Review Committee's meeting protocol, select “Review Committee,” then select “Procedures.”

Agenda for the teleconference meeting. The January 8, 2008 teleconference provides the Review Committee with an opportunity to comment on the proposed rule regarding the disposition of culturally unidentifiable human remains [43 CFR 10.11]. A copy of the proposed rule is available at: http://www.nps.gov/history/nagpra/

Procedures for Providing Public Comments. Interested members of the public may submit comments on the proposed rule through January 14, 2008, identified by the number RIN 1024-AD68, by any of the following methods:

—Federal rulemaking portal: http://www.regulations.gov Follow the instructions for submitting comments.

—Mail to: Dr. Sherry Hutt, Manager, National NAGPRA Program, National Park Service, Docket No. 1024-AC84, 1201 Eye Street, NW (2253), Washington, DC 20005.

—Hand deliver to: Dr. Sherry Hutt, 1201 Eye Street, NW, 8th floor, Washington, DC.

Before including your address, phone number, e-mail address, or other personal identifying information in your comment, you should be aware that your entire comment—including your personal identifying information—may be made publicly available at any time. While you can ask us in your comment to withhold your personal identifying information from public review, we cannot guarantee that we will be able to do so.

Dated: November 7, 2007
C. Timothy McKeown,
Designated Federal Officer, Native American Graves Protection and Repatriation Review Committee.

[FR Doc. E7-24060 Filed 12-11-07; 8:45 am]

BILLING CODE 4312-50-S